DEPARTMENT OF THE INTERIOR

Bureau of Ocean Energy Management

[Docket No. BOEM-2023-0013]

Notice of Availability of the Proposed Notice of Sale for Gulf of Mexico Outer Continental Shelf Oil and Gas Lease Sale 261

AGENCY: Bureau of Ocean Energy Management, Interior.

ACTION: Notice of availability.

SUMMARY: The Bureau of Ocean Energy Management (BOEM) announces the availability of the Proposed Notice of Sale (Proposed NOS) for the proposed Gulf of Mexico (GOM) Outer Continental Shelf (OCS) Oil and Gas Lease Sale 261 (GOM Lease Sale 261). GOM Lease Sale 261 is required by the Inflation Reduction Act of 2022. BOEM is publishing this notice pursuant to its regulatory authority. Pursuant to section 19 of the OCS Lands Act the Secretary of the Interior provides Governors of affected States and the executive of any affected local government the opportunity to review and comment on the Proposed NOS. The Proposed NOS describes the proposed size, timing, and location of the sale, including lease stipulations, terms and conditions, minimum bids, royalty rates, and rental rates.

DATES: Comments received from the Governors and the executive of any affected local government on the size, timing, and location of GOM Lease Sale 261 must be submitted to BOEM no later than May 15, 2023. BOEM will publish the Final NOS in the Federal Register at least 30 days prior to the date of bid opening. Bid opening is currently scheduled for September 27, 2023.

ADDRESSES: The Proposed NOS for GOM Lease Sale 261 and Proposed NOS Package containing information essential to potential bidders may be obtained from the Public Information Unit, Gulf of Mexico Region, Bureau of Ocean Energy Management, 1201 Elmwood Park Boulevard, New Orleans, Louisiana, 70123-2394; telephone: (504) 736-2519. The Proposed NOS and Proposed NOS Package also are available for downloading or viewing on BOEM's website at http://www.boem.gov/Sale-261/.

FOR FURTHER INFORMATION CONTACT: Bridgette Duplantis, Acting Chief, Leasing and Financial Responsibility, Office of Leasing and Plans, 504-736-7502, bridgette.duplantis@boem.gov or Ben Burnett, Chief, Leasing Policy and Management Division, Office of Strategic Recourses, 703-787-1782, benjamin.burnett@boem.gov.

Authority: This notice of sale is published pursuant to 43 U.S.C. 1331 et seq. (Outer Continental Shelf Lands Act, as amended) and 30 CFR 556.304(c).

Elizabeth Klein,
Director, Bureau of Ocean Energy Management.

[FR Doc. 2023-05259 Filed 3-14-23; 8:45 am]

BILLING CODE 4340-98-P